DEPARTMENT OF HOMELAND SECURITY

Coast Guard

33 CFR Part 165

[Docket No. USCG-2018-0550]

Safety Zones; Annual Events in the Captain of the Port Detroit Zone

AGENCY: Coast Guard, DHS.

ACTION: Notice of enforcement of regulation.

SUMMARY: The Coast Guard will enforce various safety zones for annual marine events in the Captain of the Port Detroit zone from 9 p.m. on June 23, 2018 through 11 p.m. on July 5, 2018. Enforcement of these zones is necessary and intended to ensure safety of life on the navigable waters immediately prior to, during, and immediately after these fireworks events. During the aforementioned period, the Coast Guard will enforce restrictions upon, and control movement of, vessels in a specified area immediately prior to, during, and immediately after fireworks events. During each enforcement period, no person or vessel may enter the respective safety zone without permission of the Captain of the Port or his designated representative.

DATES: The regulations in 33 CFR 165.941 will be enforced at various dates and times between 9 p.m. on June 23, 2018 through 11 p.m. on July 5, 2018.

FOR FURTHER INFORMATION CONTACT: If you have questions on this document, call or email Ryan Erpelding, Prevention, Marine Safety Unit Toledo, Coast Guard; telephone (419) 418-6037, or email Ryan.G.Erpelding@uscg.mil.

SUPPLEMENTARY INFORMATION: The Coast Guard will enforce the safety zones listed in 33 CFR 165.941, Safety Zones; Annual Events in the Captain of the Port Detroit Zone, at the following dates and times for the following events:

(1) Washington Township Summerfest Fireworks, Toledo, OH. The safety zone listed in § 165.941(a)(2), will be enforced from 9 p.m. to 11 p.m. on June 23, 2018. In the case of inclement weather on June 23, 2018, this safety zone will be enforced from 9 p.m. to 11 p.m. on June 24, 2018.

(2) Put-In-Bay Fourth of July Fireworks, Put-In-Bay, OH. The safety zone listed in § 165.941(a)(5) will be enforced from 9 p.m. to 11 p.m. on July 4, 2018. In the case of inclement weather on July 4, 2018, this safety zone will be enforced from 9 p.m. to 11 p.m. on July 5, 2018.

Under the provisions of § 165.23, entry into, transiting, or anchoring within these safety zones during the enforcement period is prohibited unless authorized by the Captain of the Port Detroit or his designated representative. Vessels that wish to transit through the safety zones may request permission from the Captain of the Port Detroit or his designated representative. Requests must be made in advance and approved by the Captain of Port before transits will be authorized. Approvals will be granted on a case by case basis. The Captain of the Port may be contacted via U.S. Coast Guard Sector Detroit on channel 16, VHF-FM or by calling (313) 568-9564. The Coast Guard will give notice to the public via Local Notice to Mariners and VHF radio broadcasts that the regulation is in effect.

This document is issued under authority of § 165.941 and 5 U.S.C. 552(a). If the Captain of the Port determines that any of these safety zones need not be enforced for the full duration stated in this document, he may suspend such enforcement and notify the public of the suspension via a Broadcast Notice to Mariners.

Dated: June 6, 2018.
Jeffrey W. Novak,
Captain, U.S. Coast Guard, Captain of the Port Detroit.

[FR Doc. 2018-12757 Filed 6-13-18; 8:45 am]

BILLING CODE 9110-04-P